DEPARTMENT OF COMMERCE

National Oceanic and Atmospheric Administration

50 CFR Part 600

[Docket No. 010119022-1113-02; I.D. 120800A]

RIN 0648-AO89

Magnuson-Stevens Fishery Conservation and Management Act; Amendment of Foreign Fishing Fee Table

AGENCY: National Marine Fisheries Service (NMFS), National Oceanic and Atmospheric Administration (NOAA), Commerce.

ACTION: Final rule.

SUMMARY: NMFS issues this final rule to amend the fee table for foreign vessels fishing in the U.S. Exclusive Economic Zone (EEZ). The intent of this action is to comply with the Magnuson-Stevens Fishery Conservation and Management Act (Magnuson-Stevens Act), which requires the establishment of a schedule of reasonable fees that apply non-discriminatorily to each foreign fishing nation.

DATES: Effective June 21, 2001.

FOR FURTHER INFORMATION CONTACT: Robert A. Dickinson, 301-713-2276

SUPPLEMENTARY INFORMATION: Regulations at 50 CFR part 600, subpart F govern foreign fishing under the Magnuson-Stevens Act (16 U.S.C. 1801 et seq.). The regulations provide for the application and issuance of foreign fishing permits under provisions of section 204 (b) of the Magnuson-Stevens Act. Under section 204 (b), foreign vessels may be permitted to catch, process, scout, support and transship in the EEZ.

Section 204 (b)(10) of the Magnuson-Stevens Act requires the establishment of a schedule of reasonable fees to apply non-discriminatorily to each foreign fishing nation. Regulations at 50 CFR 600.518 require, among other things, that foreign vessels authorized to directly harvest fish in the EEZ pay fees based on the number of metric tons of allocated species harvested. The species potentially available for foreign fishing and the fees associated with those species are found in the table at 50 CFR 600.518 (b)(1). In a proposed rule published on March 8, 2001, at 66 FR 13870, NMFS proposed to amend this table by removing species no longer available for allocation, clarifying listings for certain species appearing in the table, adding Atlantic herring as an allocable species, and establishing the fees to be paid for the resulting list of allocable species.

NMFS believes the fees and other changes to the table at 50 CFR 600.518 (b)(1) discussed in the proposed rule published on March 8, 2001, at 66 FR 13870, constitute, in accordance with section 204 (b)(10) of the Magnuson-Stevens Act, a schedule of reasonable fees to apply non-discriminatorily to each foreign fishing nation. The specific details of all the changes proposed for the table at 50 CFR 600.518 (b)(1) are discussed in the preamble to the proposed rule published on March 8, 2001, at 66 FR 13870, and are not repeated here. The fees and other changes are adopted as final. No comments were received regarding the proposed rule published on March 8, 2001, at 66 FR 13870.

Under NOAA Administrative Order 205-11, 7.01, dated December 17, 1990, the Under Secretary for Oceans and Atmosphere has delegated to the Assistant Administrator for Fisheries, NOAA, the authority to sign material for publication in the Federal Register.

Classification

This final rule has been determined to be not significant for purposes of Executive Order 12866.

The Chief Counsel for Regulation of the Department of Commerce certified to the Chief Counsel for Advocacy of the Small Business Administration when this rule was proposed that it would not have a significant economic impact on a substantial number of small entities. No comments were received regarding the economic impacts of this action on small entities. As a result, the basis for the certification has not changed and a regulatory flexibility analysis was not prepared.

List of Subjects in 50 CFR Part 600

Fisheries, Fishing, Foreign relations, Intergovernmental relations.

Dated: May 16, 2001.
Clarence Pautzke,
Acting Assistant Administrator for Fisheries, National Marine Fisheries Service.

For the reasons set out in the preamble, 50 CFR Chapter VI is amended as follows:

PART 600—MAGNUSON-STEVENS ACT PROVISIONS

1. The authority citation for part 600 continues to read as follows:

Authority: 5 U.S.C. 561 and 16 U.S.C. 1801 et seq.

2. In § 600.518 (b)(1), the table is revised to read as follows:

§ 600.518 Fee schedule for foreign fishing.

* * * * *

(b) * * *

(1) * * *

TABLE—SPECIES AND POUNDAGE FEES
[Dollars per metric ton]
Species | Poundage fees
Northwest Atlantic Ocean fisheries: |
1. Butterfish | 277.96
2. Herring, Atlantic | 25.75
3. Herring, River | 49.59
4. Mackerel, Atlantic | 64.76
5. Other finfish | 45.48
6. Squid, Illex | 97.56
7. Squid, Loligo | 321.68

[FR Doc. 01-12872 Filed 5-21-01; 8:45 am]

BILLING CODE 3510-22-S